DEPARTMENT OF COMMERCE

National Oceanic and Atmospheric Administration

[I.D. 100303A]

South Atlantic Fishery Management Council; Public Meetings

AGENCY: National Marine Fisheries Service (NMFS), National Oceanic and Atmospheric Administration (NOAA), Commerce.

ACTION: Joint meeting of the South Atlantic Council's Habitat Advisory Panel and Coral Advisory Panel (AP).

SUMMARY: The South Atlantic Fishery Management Council (Council) will hold a joint meeting of its Habitat AP and Coral AP to further the Council's integrated process to update Essential Fish Habitat information and consider ecosystem-based management through the development of a Fishery Ecosystem Plan for the South Atlantic Region.

DATES: The joint meeting will take place October 22 and 23, 2003.

ADDRESSES: The meeting will be held at the Town and Country Inn, 2008 Savannah Highway, Charleston, SC, 29407; phone: 800-334-6660 or 843-571-1000.

FOR FURTHER INFORMATION CONTACT: Kim Iverson, Public Information Officer, South Atlantic Fishery Management Council, One Southpark Circle, Suite 306, Charleston, S.C., 29407; phone 843-571-4366 or 866-SAFMC-10; FAX 843-769-4520.

SUPPLEMENTARY INFORMATION: Meeting participants will meet from 1 until 5 p.m. on October 22, 2003, and again from 8:30 a.m. until 5 p.m. on October 23, 2003. Items for discussion at the joint meeting include: (1) a summary of the workshop process to facilitate revision of Essential Fish Habitat (EFH) and EFH Habitat Areas of Particular Concern (EFH-HAPC) designations and development of a South Atlantic Fishery Ecosystem Plan; (2) deepwater coral habitat research and protection; (3) habitat policy statement review and development; (4) review of regulations protecting EFH and any remaining fishing and non-fishing activities impacting habitat; and (5) research and monitoring needs to refine the designation and protection of EFH and EFH-HAPCs and to support ecosystem-based management.

Although non-emergency issues not contained in this notice may come before this group for discussion, those issues may not be the subject of formal action during this meeting. Action will be restricted to those issues specifically listed in this notice and any issues arising after publication of this notice that require emergency action under section 305(c) of the Magnuson-Stevens Fishery Conservation and Management Act, provided the public has been notified of the Council's intent to take final actions to address such emergencies.

Special Accommodations

These meetings are physically accessible to people with disabilities. Requests for sign language interpretation or other auxiliary aids should be directed to the Council office (see ADDRESSES) by October 21,2003.

Dated: October 03, 2003.
Richard W. Surdi,
Acting Director, Office of Sustainable Fisheries, National Marine Fisheries Service.

[FR Doc. 03-25557 Filed 10-8-03; 8:45 am]

BILLING CODE 3510-22-S